DEPARTMENT OF COMMERCE

National Oceanic and Atmospheric Administration

[I.D. 022706B]

Taking and Importing Marine Mammals; Taking Marine Mammals Incidental to Rocket Launches at Vandenberg Air Force Base, CA

AGENCY: National Marine Fisheries Service, National Oceanic and Atmospheric Administration, Commerce.

ACTION: Notice; issuance of a Letter of Authorization.

SUMMARY: In accordance with the Marine Mammal Protection Act (MMPA) and implementing regulations, notification is hereby given that a 1-year letter of authorization (LOA) has been issued to the 30th Space Wing, U.S. Air Force, to harass seals and sea lions incidental to rocket and missile launches on Vandenberg Air Force Base (VAFB), California.

DATES: Effective March 17, 2006, through March 16, 2007.

ADDRESSES: The LOA and supporting documentation are available by writing to Steve Leathery, Chief, Permits, Conservation, and Education Division, Office of Protected Resources, National Marine Fisheries Service, 1315 East-West Highway, Silver Spring, MD 20910-3225, by telephoning one of the contacts listed here (see FOR FURTHER INFORMATION CONTACT), or online at: http://www.nmfs.noaa.gov/pr/permits/incidental.htm. Documents cited in this notice may be viewed, by appointment, during regular business hours, at the aforementioned address and at the Southwest Region, NMFS, 501 West Ocean Boulevard, Suite 4200, Long Beach, CA 90802.

FOR FURTHER INFORMATION CONTACT: Jolie Harrison, Office of Protected Resources, NMFS, (301) 713-2289, or Monica DeAngelis, NMFS, (562) 980-4023.

SUPPLEMENTARY INFORMATION:

Background

Section 101(a)(5)(A) of the MMPA (16 U.S.C. 1361 et seq.) directs the National Marine Fisheries Service (NMFS) to allow, on request, the incidental, but not intentional, taking of small numbers of marine mammals by U.S. citizens who engage in a specified activity (other than commercial fishing) within a specified geographical region if certain findings are made and regulations are issued. Under the MMPA, the term “taking” means to harass, hunt, capture, or kill or to attempt to harass, hunt, capture or kill marine mammals.

Authorization may be granted for periods up to 5 years if NMFS finds, after notification and opportunity for public comment, that the taking will have a negligible impact on the species or stock(s) of marine mammals and will not have an unmitigable adverse impact on the availability of the species or stock(s) for subsistence uses. In addition, NMFS must prescribe regulations that include permissible methods of taking and other means effecting the least practicable adverse impact on the species and its habitat and on the availability of the species for subsistence uses, paying particular attention to rookeries, mating grounds, and areas of similar significance. The regulations must include requirements for monitoring and reporting of such taking.

Regulations governing the taking of harbor seals, northern elephant seals, California sea lions, and northern fur seals, by harassment, incidental to missile and rocket launches, aircraft flight test operations, and helicopter operations at VAFB, were issued on February 06, 2004 (69 FR 5720), and remain in effect until February 06, 2009. For detailed information on this action, please refer to that document. These regulations include mitigation, monitoring, and reporting requirements for the incidental taking of marine mammals during rocket launches at VAFB.

Summary of Request

NMFS received a request for an LOA pursuant to the aforementioned regulations that would authorize, for a period not to exceed one year, take of marine mammals, by harassment, incidental to rocket launches at VAFB.

Summary of Activity and Monitoring Under the Current LOA

In compliance with the 2005 LOA, VAFB submitted an annual report on the rocket launches at VAFB. A summary of that report (SRS Technologies, 2006) follows.

A total of eight launches were conducted at VAFB between January 1, 2005, and December 31, 2006. The dates, locations, and monitoring required for the launches are summarized in Table 1.

Table 1. Summary of launches that occurred at VAFB in 2005
Vehicle | Date | Time | Launch Site | Monitoring Conducted
Minotaur XSS-11 | 11-Apr | 6:35 | SLC-8 | South VAFB
Delta II NOAA-N | 20-May | 3:22 | SLC-2 | North VAFB and San Miguel Island
Minuteman III | 21-Jul | 1:01 | NVAFB | No
Minuteman III | 25-Aug | 1:01 | NVAFB | No
Minuteman III | 7-Sep | 1:01 | NVAFB | No
Minuteman III | 14-Sep | 1:01 | NVAFB | No
Minotaur STP-R1 | 22-Sep | 19:24 | SLC-8 | No
Titan IV B-26 | 19-Oct | 11:05 | SLC-4E | San Miguel Island

For all four Minuteman III and the one Minotaur STP, launches occurred outside of the harbor seal pupping season and a sonic boom of greater than 1 lbs/ft2 (psf) was not predicted to occur at San Miguel Island (SMI) as a result of the launch, so biological monitoring was not required or conducted. With the exception of the Delta II, acoustic measurements of all of the vehicles launched in 2005 had previously been taken, and were not required or conducted again.

Though no sonic boom greater than 1 psf was predicted at SMI, the Minotaur XSS-11 was launched during the harbor seal pupping season, and therefore monitoring was required at VAFB. Monitoring was conducted between the Harbor Seal Beach and Flat Iron Rock haul-out sites on South VAFB. Though it was too foggy to see the behavior of the seals present at the moment the rocket was launched, the same number of adult seals and pups were present at the site 3.5 hours after the launch as were present the day prior to the launch, and numbers increased the next day, and were higher again 2 weeks later. In the days immediately surrounding the launch, a maximum of 25 adult seals and 16 pups were observed.

The Delta II NOAA-N was launched during harbor seal pupping season and a sonic boom greater than 1 psf was predicted to reach SMI, so monitoring was required at SMI and VAFB. On North VAFB, at the Spur Road haul-out site, harbor seal numbers increased the day after the launch and were higher again two weeks later. In the days immediately surrounding the launch, a maximum of 52 adult seals were observed. In the Adam's Cove area of Point Bennett on the western end of SMI, two smaller focal groups of California sea lions composed primarily of adult females were observed. The observer did not hear a sonic boom and saw no visible reaction to the launch by the sea lions (with night vision goggles). In the days immediately surrounding the launch, a maximum of 625 adult sea lions were observed. Similarly, no reaction by elephant seals to the launch was observed at Point Bennett, and the maximum number seen was 256.

A sonic boom greater than 1 psf was predicted to occur at SMI during the Titan IV B-26 launch, however, it occurred outside of the harbor seal pupping season, so no monitoring was required at VAFB. A smaller focal group of California sea lions was monitored at the North-West Cove area of Point Bennett on SMI. The observer did not hear a sonic boom (and acoustic measurements indicated no sonic boom impacted SMI) and saw no visible reaction to the launch by the sea lions. A maximum of 3,157 sea lions (mostly juveniles) were seen in the days surrounding the launch.

In summary, no impacts to any marine mammals on SMI were detected during the launches. On VAFB, there was no evidence of injury or mortality as a result of the launches and numbers of hauled out animals were back to pre-launch levels within one day of both launches monitored.

Authorization

Accordingly, NMFS has issued an LOA to the 30th Space Wing, U.S. Air Force authorizing the harassment of marine mammals incidental to rocket launches at VAFB. Issuance of this LOA is based on findings, described in the preamble to the final rule (67 FR 5720, February 6, 2004) and supported by information contained in VAFB's required 2005 annual report, that the activities described under this LOA will have no more than a negligible impact on marine mammal stocks and will not have an unmitigable adverse impact on the availability of the affected marine mammal stocks for subsistence uses.

Dated: March 20, 2006.
James H. Lecky,
Director, Protected Resources, National Marine Fisheries Service.

[FR Doc. E6-4321 Filed 3-23-06; 8:45 am]

BILLING CODE 3510-22-S